DEPARTMENT OF LABOR

Occupational Safety and Health Administration

National Advisory Committee on Occupational Safety and Health; Notice of Meeting

Notice is hereby given of the date and location of the next meeting of the National Advisory Committee on Occupational Safety and Health (NACOSH), established under section 7(a) of the Occupational Safety and Health Act of 1970 U.S.C. (29 656) to advise the Secretary of Labor and the Secretary of Health and Human Services on matters relating to the administration of the Act. NACOSH will hold a meeting on December 5-6, 2000, in Room N3437 A-C of the Department of Labor Building located at 200 Constitution Avenue NW., Washington, DC. The meeting is open to the public and will begin at 9 a.m. lasting until approximately 4 p.m. each day.

Since the last meeting on September 13-14, three new members have been added to replace three former members. These include: Public Representative Myrtle I. Turner, a Research Scientist at Georgia Tech Research Institute who will replace Nancy Lessin; Management Representative Judith S. Freyman, Director of Regulatory Affairs at ConAgra Foods who will replace Dennis Scullion; and Safety Representative Rixio Enrique Medina, Manager of Health and Safety Services for CITGO, who will replace Dave Heller. The first day of the meeting will begin with an overview of current activities of the Occupational Safety and Health Administration (OSHA) and the National Institute for Occupational Safety and Health (NIOSH). Other agenda items include: a presentation on the new Worker Health Chartbook, 2000, which has just been released by NIOSH; a panel presentation by the National Institute of Environmental Health Sciences (NIEHS) related to its Worker Education and Training Program Partnership; a presentation by the Veterans Health Administration (VHA) related to its safety and health partnership; and a presentation by Dr. Rita C. Richey of Wayne State University related to the evaluation of training programs.

Written data, views or comments for consideration by the committee may be submitted, preferably with 20 copies, to Joanne Goodell at the address provided below. Any such submissions received prior to the meeting will be provided to the members of the Committee and will be included in the record of the meeting.

Because of the need to cover a wide variety of subjects in a short period of time, there is usually insufficient time on the agenda for members of the public to address the committee orally. However, any such requests will be considered by the chair, who will determine whether or not time permits. Any request to make an oral presentation should state the amount of time desired, the capacity in which the person would appear, and a brief outline of the content of the presentation. Individuals with disabilities who need special accommodations should contact Veneta Chatmon (phone: 202-693-1912; FAX: 202-693-1634) one week before the meeting.

An official record of the meeting will be available for public inspection in the OSHA Technical Data Center (TDC) located in Room N2625 of the Department of Labor Building (202) 693-2350). For additional information contact: Joanne Goodell, Occupational Safety and Health Administration (OSHA) N-3641, 200 Constitution Avenue, NW., Washington, DC 20210 (phone 202-693-1925; FAX: 202-693-1641; e-mail joanne. goodell@osha.gov); or check the National Advisory Committee on Occupational Safety and Health information pages located at www.osha.gov.

Dated: Signed at Washington, DC this 6th day of November 2000.
Charles N. Jeffress.
Assistant Secretary of Labor for Occupational Safety and Health.

[FR Doc. 00-29039 Filed 11-13-00; 8:45 am]

BILLING CODE 4510-26-M